DEPARTMENT OF HEALTH AND HUMAN SERVICES

National Institutes of Health

National Institute of Allergy and Infectious Diseases; Amended Notice of Meeting

Notice is hereby given of a change in the meeting of the Acquired Immunodeficiency Syndrome Research Review Committee, which was published in the Federal Register on February 19, 2019, 84 FR 4834, Pg 4834.

Amendment changes the meeting dates from August 1-2, 2019 to August 14-15, 2019. The meeting is closed to the public.

Dated: July 23, 2019.
Sylvia L. Neal,
Program Analyst, Office of Federal Advisory Committee Policy.

[FR Doc. 2019-15980 Filed 7-26-19; 8:45 am]

BILLING CODE 4140-01-P